DEPARTMENT OF JUSTICE

Notice of Lodging of Proposed Consent Decree Under the Clean Air Act

On January, 7, 2022, the Department of Justice lodged a proposed Consent Decree with the United States District Court for the Southern District of Texas in the lawsuit entitled United States of America v. Derichebourg Recycling USA, Inc., Civil Action No. 22-cv-00060.

In this action, the United States, on behalf of the U.S. Environmental Protection Agency, filed a Complaint alleging violations at three of Defendant's scrap metal recycling facilities in Texas of the Clean Air Act's Recycling and Emission Reduction regulations, 40 CFR part 82, which were promulgated pursuant to the Clean Air Act's title VI stratospheric ozone protection provisions (“Title VI”), 42 U.S.C. 7671-7671q,. In the Complaint, the U.S. alleges that the company violated title VI of the Clean Air Act and the regulations promulgated thereunder by failing to ensure that any refrigerant contained in the appliances and motor vehicles it accepted for recycling was properly recovered. Specifically, the United States alleges that Defendant accepted appliances and motor vehicles that contained (or once contained) refrigerant and failed to either recover the refrigerant or ensure that it had been properly recovered, as required.

Under the proposed settlement, the Defendant agrees to pay $442,500.00 in civil penalties and perform certain injunctive relief to ensure that all ten of its facilities in Texas and Oklahoma are operating in compliance with applicable federal laws and regulations.

The publication of this notice opens a period for public comment on the proposed Consent Decree. Comments should be addressed to the Assistant Attorney General, Environment and Natural Resources Division, and should refer to United States of America v. Derichebourg Recycling USA, Inc., D.J. Ref. No. 90-5-2-1-12352. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $15.25 (25 cents per page reproduction cost) payable to the United States Treasury.

Thomas Carroll,
Assistant Section Chief, Environmental Enforcement Section, Environment and Natural Resources Division.

[FR Doc. 2022-00624 Filed 1-12-22; 8:45 am]

BILLING CODE 4410-15-P